SMALL BUSINESS ADMINISTRATION

[Declaration of Disaster #3428]

State of Texas, (Amendment #8); Disaster Loan Areas

In accordance with a notice received from the Federal Emergency Management Agency, dated July 31, 2002, the above numbered declaration is hereby amended to establish the incident period for this disaster as beginning on June 29, 2002 and continuing through July 31, 2002.

All other information remains the same, i.e., the deadline for filing applications for physical damage is September 2, 2002, and for economic injury the deadline is April 4, 2003.

(Catalog of Federal Domestic Assistance Program Nos. 59002 and 59008).
Dated: August 6, 2002.
Herbert L. Mitchell,
Associate Administrator for Disaster Assistance.

[FR Doc. 02-20360 Filed 8-9-02; 8:45 am]

BILLING CODE 8025-01-P